DEPARTMENT OF HEALTH AND HUMAN SERVICES

Centers for Disease Control and Prevention

National Center for Injury Prevention and Control/Initial Review Group, (NCIPC/IRG)

In accordance with section 10(a)(2) of the Federal Advisory Committee Act (Pub. L. 92-463), the Centers for Disease Control and Prevention (CDC), announces the following meeting for the aforementioned review group:

Times and Date:

2 p.m.-2:30 p.m., June 18, 2008 (Open).

2:30 p.m.-4 p.m., June 18, 2008 (Closed).

Place: CDC, Chamblee Campus, Building 106, 4770 Buford Highway, Atlanta, GA 30341. Toll Free: 888-793-2154, Participant Passcode: 4424802.

Status: Portions of the meetings will be closed to the public in accordance with provisions set forth in Section 552b(c)(4) and (6), Title 5, U.S.C., and the Determination of the Director, Management Analysis and Services Office, CDC, pursuant to Section 10(d) of Public Law 92-463.

Purpose: This group is charged with providing advice and guidance to the Secretary, Department of Health and Human Services, and the Director, CDC, concerning the scientific and technical merit of grant and cooperative agreement applications received from academic institutions and other public and private profit and nonprofit organizations, including State and local government agencies, to conduct specific injury research that focuses on prevention and control.

Matters To Be Discussed: The meeting will include the discussion and voting of the peer reviews conducted in response to Fiscal Year 2008 Requests for Applications related to the following individual research announcements: RFA-CE-08-001, Youth Violence Prevention through Community-Level Change (U49); RFA-CE-08-002, Grants for Traumatic Injury Biomechanics and their Severity (R01); RFA-CE-08-003, Research for Preventing Violence and Violence-Related Injury (R01); RFA-CE-08-004, Translation Research to prevent Motor Vehicle-related crashes and Injuries to Teen Drivers and their Passengers (R01); RFA-CE-08-005, Dissertation Grant Awards for Doctoral Candidates for Violence-Related Injury Prevention Research in Minority Communities (R36); RFA-CE-08-006, Feasibility of Acute Concussion Management in the Emergency Dept (U49); RFA-CE-08-007, Assessing the Effects of Interpersonal Violence Prevention on Suicide (U49); RFA-TS-08-001, Program of Exposure-Dose Reconstruction and Computational Methods to Quantify Exposures to Hazardous Substances (U01); and RFA-EH-08-001, Program to Assess Health Effects Associated with Exposures to Volcanic Emissions and Environmental Air Pollutants (P78).

Agenda items are subject to change as priorities dictate.

Contact Person for More Information: Jane Suen, Dr. P.H., M.S., Executive Secretary, NCIPC IRG, CDC, 4770 Buford Highway, NE., M/S F-62, Atlanta, Georgia 30341, telephone 770/488-4281.

The Director, Management Analysis and Services Office has been delegated the authority to sign Federal Register notices pertaining to announcements of meetings and other committee management activities for both CDC and the Agency for Toxic Substances and Disease Registry.

Dated: May 19, 2008.
Elaine L. Baker,
Director, Management Analysis and Services Office, Centers for Disease Control and Prevention.

[FR Doc. E8-11720 Filed 5-27-08; 8:45 am]

BILLING CODE 4163-18-P